Title 3—

The President

Proclamation 8641 of March 30, 2011

Cesar Chavez Day, 2011

By the President of the United States of America

A Proclamation

Our Nation’s story of progress is rich with profound struggle and great sacrifice, marked by the selfless acts and fearless leadership of remarkable Americans. A true champion for justice, Cesar Chavez advocated for and won many of the rights and benefits we now enjoy, and his spirit lives on in the hands and hearts of working women and men today. As we celebrate the anniversary of his birth, we honor Cesar Chavez’s lasting victories for American workers and his noble methods in achieving them.

Raised in the fields of Arizona and California, Cesar Chavez faced hardship and injustice from a young age. At the time, farm workers toiled in the shadows of society, vulnerable to abuse and exploitation. Families like Chavez’s were impoverished; exposed to hazardous working conditions and dangerous pesticides; and often denied clean drinking water, toilets, and other basic necessities.

Cesar Chavez saw the need for change and made a courageous choice to work to improve the lives of his fellow farm workers. Through boycotts and fasts, he led others on a path of nonviolence conceived in careful study of the teachings of St. Francis of Assisi and Mahatma Gandhi, and in the powerful example of Martin Luther King, Jr. He became a community organizer and began his lifelong advocacy to protect and empower people. With quiet leadership and a powerful voice, Cesar founded the United Farm Workers (UFW) with Dolores Huerta, launching one of our Nation’s most inspiring social movements.

Cesar Chavez’s legacy provides lessons from which all Americans can learn. One person can change the course of a nation and improve the lives of countless individuals. Cesar once said, “Non-violence is not inaction. . . . Non-violence is hard work. It is the willingness to sacrifice. It is the patience to win.” From his inspiring accomplishments, we have learned that social justice takes action, selflessness, and commitment. As we face the challenges of our day, let us do so with the hope and determination of Cesar Chavez, echoing the words that were his rallying cry and that continue to inspire so many today, “Sí, se puede” — “Yes, we can.”

NOW, THEREFORE, I, BARACK OBAMA, President of the United States of America, by virtue of the authority vested in me by the Constitution and the laws of the United States, do hereby proclaim March 31 of each year as Cesar Chavez Day. I call upon all Americans to observe this day with appropriate service, community, and educational programs to honor Cesar Chavez’s enduring legacy.

IN WITNESS WHEREOF, I have hereunto set my hand this thirtieth day of March, in the year of our Lord two thousand eleven, and of the Independence of the United States of America the two hundred and thirty-fifth.

[FR Doc. 2011-8128

Filed 4-1-11; 11:15 am]

Billing code 3195-W1-P